COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and service to the Procurement List that will be furnished by nonprofit agencies employing persons who are blind or have other severe disabilities, and deletes products and services from the Procurement List previously furnished by such agencies.

DATES: Date added to and deleted from the Procurement List: April 28, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 5/25/2018 (83 FR 102), 11/16/2018 (83 FR 222), 2/1/2019 (84 FR 22), the Committee for Purchase From People Who Are Blind or Severely Disabled published notice of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection the products and service proposed for addition to the Procurement List.

End of Certification

Accordingly, the following products and service are added to the Procurement List:

Products

NSN—Product Name: 7110-00-NIB-2413—Desk, Standing, Adjustable, Black, 36″

Mandatory Source of Supply: Wiscraft, Inc., Milwaukee, WI

Mandatory For Contracting Activity: Federal Acquisition Service, GSA/FSS Household and Industrial Furniture

NSNs—Product Names: 8465-00-NIB-0263—Airborne Rucksack, Modular Lightweight Load-Carrying Equipment (MOLLE), OCP2015

Mandatory Source of Supply: Winston-Salem Industries for the Blind, Inc., Winston-Salem, NC

8465-00-NIB-0263—Airborne Rucksack, Modular Lightweight Load-Carrying Equipment (MOLLE), OCP2015

Mandatory Source of Supply: Peckham Vocational Industries, Inc., Lansing, MI

8465-01-F05-2045—Airborne Tactical Assault Panel (A-TAP)

Mandatory Source of Supply: Southeastern Kentucky Rehabilitation Industries, Inc., Corbin, KY

Mandatory For Contracting Activity: Dept. of the Army, W6QK ACC-APG Natick

Service

Service Type: Administrative Service

Mandatory for: U.S. Army Corps of Engineers, Huntsville Engineering and Support Center, Huntsville, AL

Mandatory Source of Supply: Huntsville Rehabilitation Foundation, Huntsville, AL

Contracting Activity: Dept. of the Army, W2V6 USA ENG SPT CTR Huntsvil

Deletions

On 2/15/2019 (84 FR 32), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Janitorial/Custodial

Mandatory for: Armed Forces Reserve Center: 1702 Tahoma Avenue, Yakima, WA

Mandatory Source of Supply: Yakima Specialties, Inc., Yakima, WA

Contracting Activity: Dept. of the Navy, U.S. Fleet Forces Command

Service Type: Janitorial/Custodial

Mandatory for: U.S. Federal Building—Everett, 3002 Colby Avenue, Everett, WA

Mandatory Source of Supply: AtWork!, Bellevue, WA

Contracting Activity: General Services Administration

Patricia Briscoe,
Deputy Director, Business Operations (Pricing and Information Management).

[FR Doc. 2019-06096 Filed 3-28-19; 8:45 am]

BILLING CODE 6353-01-P